DEPARTMENT OF HEALTH AND HUMAN SERVICES

Centers for Disease Control and Prevention

Statement of Organization, Functions, and Delegations of Authority

Part C (Centers for Disease Control and Prevention) of the Statement of Organization, Functions, and Delegations of Authority of the Department of Health and Human Services (45 FR 67772-76, dated October 14, 1980, and corrected at 45 FR 69296, October 20, 1980, as amended most recently at 76, FR 15984-15985, dated March 22, 2011) is amended to reflect the reorganization of the Center for Global Health, Centers for Disease Control and Prevention.

Section C-B, Organization and Functions, is hereby amended as follows:

After the title and functional statement for the Division of Public Health Systems and Workforce Development (CWF), delete in their entirety the remaining titles and functional statements for the Division of Public Health Systems and Workforce Development (CWF) and insert the following:

Office of the Director (CWF1). (1) Provides leadership, overall direction, and evaluation for the division; (2) formulates and implements CDC's strategy for developing global public health capacity in applied epidemiology, public health systems, laboratory operations and management, and leadership; (3) provides leadership and guidance on policy, program planning, program management, and operations; (4) plans, allocates, and monitors resources; (5) provides leadership in assisting national ministries of health, international agencies, and non-governmental organizations in the delivery of epidemiologic services and the development of international epidemiologic networks; (6) liaises with other CDC organizations, other Federal agencies, national ministries of health, and international organizations; and (7) provides consultations with partners and stakeholders, including nongovernmental organizations and the private sector, on program development and overall public health systems and sub-systems.

Field and Applied Epidemiology Training Programs Branch (CWFD). (1) Plans, directs, supports, implements, and coordinates field epidemiology and laboratory training programs (FE(L)TP), Data for Decision Making Projects, operational and implementation research projects, and other partnerships with ministries of health; (2) assists partners in assessing their needs for workforce strengthening and development; (3) with partners, designs and conducts evidence-based instruction in public health disciplines needed to strengthen their public health systems, including instructional design, epidemiology, surveillance, laboratory operations and management, communications, and economic evaluation; (4) provides leadership and expertise in assisting national ministries of health to utilize trained public health workers for developing health policy, and implementing and evaluating health programs; (5) assigns and manages expert consultants as long-term, in-country advisors to ministry of health programs; (6) collaborates within CDC and with other Federal agencies, and with national and international organizations in support of partner programs; (7) provides consultation to ministries of health in the development of surveillance systems (e.g., communicable and non-communicable disease surveillance, injury, chronic diseases, etc.); (8) develops and evaluates competency-based training materials for the FETP and similar programs for use of the division and its partners; (9) collaborates within CDC and with national or international organizations in the development of competency-based training materials, evaluation of training, and design of surveillance systems needed to accomplish the mission; (10) creates and maintains division-wide computer-based and distance-based learning methods, and develops the capacity of partners to create, evaluate, and share their own; (11) works closely and coordinates with the Public Health Systems Strengthening Branch in areas of assessment, workforce development to meet system needs; laboratory systems, etc.; and (12) maintains a divisional training material library and Web site.

Public Health Systems Strengthening Branch (CWFE). (1) Plans, directs, supports, implements, and coordinates public health systems development, operational and implementation research projects, and other partnerships with ministries of health related to systems strengthening; (2) assists partners in assessing their needs for health systems strengthening, focusing on public health systems development issues; (3) supports partner ministries of health's system strengthening efforts through provision of technical assistance, including facilitating provision of assistance from relevant subject matter expert programs across the agency, to ensure that ministries have access to the technical resources they need to fully evaluate critical systems and programs; (4) improves the management and functionality of public health laboratories in partner countries by supporting laboratory systems quality improvement, biosafety, and implementation of international laboratory standards and guidelines; (5) develops models for continuous tracking and improvement of critical outputs and outcomes from the programs around the world that the division supports (monitoring and evaluating function); (6) implements and coordinates CDC's support to WHO'S Integrated Disease Surveillance and Response strategy and directly supports the implementation of the International Health Regulations at the country level; (7) enhances the skills, knowledge, and capacity of the human resources for surveillance by merging those efforts with IT solutions that allow the surveillance workforce to function at a high level of timeliness and reliability; (8) works with partner countries to establish human resource information systems to better track the public health workforce within ministries of health; (9) mobilizes expertise from across the agency and from partners throughout the USG and internationally to provide technical assistance for countries interested in building their own dedicated public health institutions (“national CDCs”); (10) plans, directs, supports, implements, and coordinates public health leadership and management development and organizational excellence efforts; (11) provides leadership and technical assistance for reconstruction and stabilization efforts aimed at rebuilding or strengthening severely disrupted public health systems in countries in crisis or emerging from crisis (“fragile states”); and (12) coordinates and works closely with the Field and Applied Epidemiology Training Programs Branch in areas of assessments and workforce development to meet system needs and overall strategies.

Delete in its entirety the function statement for the Office of the Director (CWJ1), Division of Global Disease Detection and Emergency Response (CWJ), and insert the following:

Office of the Director (CWJ1). (1) Provides leadership, oversight, evaluation and overall direction and management for the activities of the division; (2) develops the division overall strategy and the division policies on planning, evaluation, management, and operations; (3) plans, allocates, and monitors resources; (4) provides liaison with other CDC organizations, other Federal agencies, national ministries of health, international organizations, non-governmental organizations, private sector, and others that CDC cooperates with in global health programs and activities; (5) promotes high standards in science and ethics among CDC's international activities; (6) maintains staff in the CDC Emergency Operations Center to manage, direct, coordinate and evaluate biosurveillance data from domestic and international networks and serve as a central focus for global outbreak and incident response activities; and (7) maintains and supports the Health Systems Reconstruction Office in its efforts to coordinate the implementation of training/capacity building initiatives within Haiti and other impacted countries.

Delete in its entirety item (8) of the functional statement for the Global Disease Detection Branch (CWJB). Delete item (2) and insert the following: (2) provides program support, resources and technical assistance to the Global Disease Detection (GDD) Centers around the world;

Delete items (3), (4), (6), and (7) of the functional statement for the Global Health Security Branch (CWJC) and insert the following accordingly: (3) provides support and coordination at HHS/OGHA regarding the development of policies and priorities on international influenza; (4) serves as liaison with HHS and technical agency (CDC, NIH, FDA) representatives for international pandemic preparedness related to budget formulation, program development, strategic planning, and global health security policy development; (6) provides technical assistance through training, and capacity building in supporting efforts to reduce the public health threat from chemical, biological, and nuclear disasters that are either natural or man-made; (7) provides liaison with the DoS Biosecurity Engagement Program and DoD Defense Threat Reduction Agency to coordinate on global biological threat reduction;

Dated: April 19, 2011.
James D. Seligman,
Acting Chief Operating Officer, Centers for Disease Control and Prevention.

[FR Doc. 2011-10639 Filed 5-2-11; 8:45 am]

BILLING CODE 4160-18-M